DEPARTMENT OF THE INTERIOR

National Park Service

National Register of Historic Places; Notification of Pending Nominations and Related Actions

Nominations for the following properties being considered for listing or related actions in the National Register were received by the National Park Service before November 30, 2008. Pursuant to section 60.13 of 36 CFR Part 60, written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by December 31, 2008.

J. Paul Loether,
Chief, National Register of Historic Places/National, Historic Landmarks Program.

ALABAMA

Jefferson County

Ramsay-McCormack Building, 1823-1825 Avenue E, Birmingham, 08001273

ARIZONA

Maricopa County

Hoghe Bunk House, 5240 W. Lamar Rd., Glendale, 08001274

Santa Cruz County

Little Outfit Schoolhouse, The, 571 Canelo Pass Rd., Patagonia, 08001275

CALIFORNIA

Los Angeles County

Brockman Building and New York Cloak and Suit House (annex), 520 W. 7th St. and 708 S. Grand Ave., Los Angeles, 08001276

San Benito County

San Juan Bautista Third Street Historic District, 3rd St. between 406 3rd St. and Franklin St., San Juan Bautista, 08001277

San Joaquin County

Philomathean Clubhouse, 1000 N. Hunter St., Stockton, 08001278

Santa Clara County

Young, Earl and Virginia, House, 1888 White Oaks Rd., Campbell, 08001279

GEORGIA

Bibb County

League, Joseph and Mary Jane, House, 1849 Waverland Dr., Macon, 08001280

Fulton County

New Hope African Methodist Episcopal Church and Cemetery, 3012 Arden Rd., NW., Atlanta, 08001281

Habersham County

Lawton Place, 136 7th Ave., Mount Airy, 08001282

IOWA

Clarke County

Chicago, Burlington and Quincy Depot, (Advent & Development of Railroads in Iowa MPS) 215 N. Main St., Osceola, 08001283

MASSACHUSETTS

Suffolk County

Compton Building, 159, 161-175 Devonshire St., 18-20 Arch St., Boston, 08001284

MISSOURI

Buchanan County

Lawler Motor Company Building, (St. Joseph, Buchanan County, Missouri MPS AD) 1224 Frederick Ave., St. Joseph, 08001285

St. Louis Independent City

St. Cecilia Historic District, (South St. Louis Historic Working and Middle Class Streetcar Suburbs MPS) Bounded by S. Grand Blvd., Delor St., Virginia Ave., and Bates St., St. Louis, 08001286

MONTANA

Silver Bow County

Wold Barn, SW corner of jct. of Hecla and 3rd Sts., Melrose, 08001287

NORTH CAROLINA

Ashe County

Lansing School, E. side of NC 194 at jct. with NC 1517, Lansing, 08001288

Guilford County

First Baptist Church, 701 E. Washington Dr., High Point, 08001289

Halifax County

Enfield Graded School, 700 Branch St., Enfield, 08001290

Henderson County

Cold Spring Park Historic District, (Hendersonville MPS) Bounded roughly by N. Main St. on the N., Maple St. on the E., 9th Ave. E. on the S., and Locust St. on the W., Hendersonville, 08001291

Wake County

Mount Hope Cemetery, 1100 Fayetteville St., Raleigh, 08001292

NORTH DAKOTA

Billings County

Custer Military Trail Historic Archaeological District, Address Restricted, Medora, 08001293

Golden Valley County

Custer Military Trail Historic Archaeological District, Address Restricted, Medora, 08001293

OHIO

Hamilton County

Hyde Park Methodist Episcopal Church, 1345 Grace Ave., Cincinnati, 08001294

Nurre-Royston House, 4330 Errun La., Cincinnati, 08001295

Lawrence County

Downtown Ironton Historic District, Portions of 2nd, 3rd, 4th, 5th, Center Sts., Park Ave., Vernon St. and Bobby Bare Blvd., Ironton, 08001296

Montgomery County

Julienne Girls Catholic High School, 325 Homewood Ave., Dayton, 08001297

Stark County

Dobkins, John and Syd, House, 5120 Plain Center NE., Canton, 08001298

TEXAS

Dallas County

Dallas Downtown Historic District (Boundary Increase), Bounded by Jackson, North Hardwood Commerce, N.-S. line between S. Pearl Exwy., and S. Hardwood Canton, Dallas, 08001299

Tarrant County

Westbrook, Roy A. and Gladys, House, 2232 Winton Terrace W., Fort Worth, 08001300

WASHINGTON

King County

Hawthorne Square, (Seattle Apartment Buildings, 1900-1957) 4800 Fremont Ave. N., Seattle, 08001301

Redmond City Park, 7802 168th Ave., NE., Redmond, 08001302

WISCONSIN

Wood County

Parkin Ice Cream Company, 108 W. 9th St., Marshfield, 08001303

WYOMING

Big Horn County

Hyart Theater, The, 251 E. Main St., Lovell, 08001304

Laramie County

Moore Haven Heights Historic District, Between Bent Ave. on the W., E. side of Central Ave. on the E., W. 8th Ave. on the N., W. Pershing Blvd on the S., Cheyenne, 08001305

Sweetwater County

Green River Downtown Historic District, 72-142 Flaming Gorge Way, 58-94 N. 1st St., 125-200 E. Railroad Ave., 62-94 N. 1st E. St., Pedestrian Overpass, Green River, 08001306

Request for boundary decrease has been made for the following resources:

ARIZONA

Maricopa County

Sun-Up Ranch, W. Frontage Rd. of Black Canyon Hwy., 1.75 mi. N. of Desert Hills interchange, New River, 08001307

Request for removal has been made for the following resources:

IOWA

Floyd County

Suspension Bridge, Over the Big Cedar River at the end of Clark St., Charles City, 89001778

Tama County

Toledo Bridge Ross St. Over Deer Cr. Toledo, 98000480

TEXAS

Galveston County

Balinese Room, 2107 Seawall Blvd. Galveston, 9700258

Breakers, The, TX 87 W. of Gilchrist, Caplen, 98001225

Moser House, 509 19th St., Galveston, 84001711

[FR Doc. E8-29663 Filed 12-15-08; 8:45 am]

BILLING CODE 4310-70-P